DEPARTMENT OF JUSTICE

Notice of Proposed Consent Decree Under the Clean Air Act

On April 4, 2013, the Department of Justice lodged a proposed Consent Decree with the United States District Court for the Eastern District of Missouri, in the lawsuit entitled United States v. Tyson Foods, Inc., et al, Civil Action No. 1:13-cv-56. The United States' Complaint names Tyson Foods, Inc. (Tyson); IBP Redevelopment Corp.; IBP Food Co.; Foodbrands Supply Chain Services, Inc.; Tyson Chicken, Inc.; Tyson Deli, Inc.; Tyson Fresh Meats, Inc.; Tyson Poultry, Inc.; Tyson Prepared Foods, Inc.; Tyson Processing Services, Inc.; and Tyson Refrigerated Processed Meats, Inc.

The United States filed this lawsuit under the Clean Air Act (CAA), 42 U.S.C. Sections 7412(r)(7) and 7413 (b)(2), for noncompliance with the requirements of the chemical accident prevention provisions of the CAA, including failure to test or replace safety relief valves, improperly co-located gas-fired boilers and ammonia compressors, and other failures to abide by the Risk Management Program (“RMP”) requirements of Section 112(r)(7) of the Act. The proposed Consent Decree, which resolves all of these claims, requires Tyson to undertake extensive measures to ensure compliance with RMP regulatory requirements, including comprehensive third-party audits of RMP components at all 23 Tyson facilities within Missouri, Kansas, Iowa, and Nebraska. Tyson is required correct any violations found within specified periods of time and certify the completion of that work.

Tyson will also audit each facility to determine the thickness of threaded piping connections used in its refrigeration systems. Tyson will replace and/or otherwise correct any non-compliant piping it finds in its facilities.

Tyson must also pay a civil penalty of $3,950,000 and undertake a supplemental environmental project. Tyson will purchase and deliver emergency equipment that is relevant to responses to emergencies involving chemicals that are regulated pursuant to the CAA Risk Management Program, to fire departments in the affected communities within 180 days after the Effective Date of the Consent Decree.

The Consent Decree provides Tyson with a release for the RMP violations alleged in the Complaint, and for other RMP violations uncovered by the audits that Tyson fully and timely corrects pursuant to the Consent Decree.

The publication of this notice opens a period for public comment on the Proposed Consent Decree. Comments should be addressed to the Assistant Attorney General, Environment and Natural Resources Division, Ignacia S. Moreno, and should refer to United States v. Tyson Foods, Inc. et al., D.J. Ref. No. 90-5-2-1-10377. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, D.C. 20044-7611.

During the public comment period, the Proposed Consent Decree may be examined and downloaded at this Justice Department Web site: http://www.usdoj.gov/enrd/Consent_Decrees.html. We will provide a paper copy of the Proposed Consent Decree upon written request and payment of reproduction costs. Please mail your request and payment to: Consent Decree Library, U.S. DOJ-ENRD, P.O. Box 7611, Washington, DC 20044-7611.

Please enclose a check or money order for $13.50 (25 cents per page reproduction cost) payable to the United States Treasury.

Robert M. Maher, Jr.,
Assistant Section Chief, Environmental Enforcement Section, Environment and Natural Resources Division.

[FR Doc. 2013-08357 Filed 4-9-13; 8:45 am]

BILLING CODE 4410-15-P